DEPARTMENT OF COMMERCE

National Oceanic and Atmospheric Administration

[RTID 0648-XD423]

Fisheries of the South Atlantic; South Atlantic Fishery Management Council; Public Meetings

AGENCY: National Marine Fisheries Service (NMFS), National Oceanic and Atmospheric Administration (NOAA), Commerce.

ACTION: Notice of a joint meeting of the South Atlantic Fishery Management Council's Citizen Science Operations Committee and Citizen Science Projects Advisory Committee via webinar.

SUMMARY: The South Atlantic Fishery Management Council (Council) will hold a joint meeting of its Citizen Science Operations Committee and Citizen Science Projects Advisory Committee via webinar October 27, 2023.

DATES: The Citizen Science Operations Committee and Citizen Science Projects Advisory Committee joint meeting will be held via webinar on Friday, Oct 27, 2023, from 9 a.m. until 12 p.m.

ADDRESSES:

Meeting address: The meeting will be held via webinar. The webinar is open to members of the public. Additional information, including a webinar registration link and meeting materials will be available from the Council's website at: https://safmc.net/events/oct-2023-citizen-science-operations-projects-advisory-committee-meeting/ two weeks prior to the meeting. There will be an opportunity for public comment at the beginning of the meeting.

Council address: South Atlantic Fishery Management Council, 4055 Faber Place Drive, Suite 201, N Charleston, SC 29405.

FOR FURTHER INFORMATION CONTACT: Julia Byrd, Citizen Science Program Manager, SAFMC; phone: (843) 302-8439 or toll free: (866) SAFMC-10; fax: (843) 769-4520; email: julia.byrd@safmc.net.

SUPPLEMENTARY INFORMATION: The Citizen Science Operations Committee serves as advisors to the Council's Citizen Science Program. Committee members include representatives from the Council's Citizen Science Advisory Panel Pool, NOAA Fisheries Southeast Regional Office, NOAA Fisheries Southeast Fisheries Science Center, and the Council's Science and Statistical Committee. Their responsibilities include developing programmatic recommendations, reviewing policies, providing program direction/multi-partner support, identifying citizen science research needs, and providing general advice. Projects Advisory Committee members include representatives from the Council's fishery Advisory Panels (AP), Habitat & Ecosystem AP, and Outreach & Communication AP. Their responsibilities include identifying citizen science research and data needs across all the Council's fishery management plans; assisting with development of volunteer engagement strategies for recruiting, training, retaining, and communicating with volunteers; and serving as outreach ambassadors for the Program.

Agenda items include: reviewing and recommending updates to the Council's citizen science research priorities; a Citizen Science Program and Project update; discussion of Committee membership; and other business.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: September 26, 2023.
Rey Israel Marquez,
Acting Deputy Director, Office of Sustainable Fisheries, National Marine Fisheries Service.

[FR Doc. 2023-21465 Filed 9-28-23; 8:45 am]

BILLING CODE 3510-22-P